DEPARTMENT OF THE TREASURY

Office of the Comptroller of the Currency

[Docket ID OCC-2024-0014]

FEDERAL RESERVE SYSTEM

[Docket No. OP-1836]

FEDERAL DEPOSIT INSURANCE CORPORATION

RIN 3064-ZA43

Request for Information on Bank-Fintech Arrangements Involving Banking Products and Services Distributed to Consumers and Businesses; Extension of Comment Period

AGENCY: Office of the Comptroller of the Currency, Treasury; Board of Governors of the Federal Reserve System; and Federal Deposit Insurance Corporation.

ACTION: Request for information and comment; extension of comment period.

SUMMARY: On July 31, 2024, the Office of the Comptroller of the Currency (OCC), Treasury, the Board of Governors of the Federal Reserve System (Board), and the Federal Deposit Insurance Corporation (FDIC) (collectively, the “agencies”) published in the Federal Register a request for information and comment soliciting input on the nature of bank-fintech arrangements, effective risk management practices regarding bank-fintech arrangements, and the implications of such arrangements, including whether enhancements to existing supervisory guidance may be helpful in addressing risks associated with these arrangements. Public comments were requested by September 30, 2024. The agencies have determined that an extension of the comment period until October 30, 2024, is appropriate.

DATES: The comment period for the notice that published at 89 FR 61577 (July 31, 2024) is extended. Comments must be received on or before October 30, 2024.

ADDRESSES: Comments should be directed to:

OCC: Commenters are encouraged to submit comments through the Federal eRulemaking Portal, if possible. Please use the title “Request for Information on Bank-Fintech Arrangements Involving Banking Products and Services Distributed to Consumers and Businesses” to facilitate the organization and distribution of the comments. You may submit comments by any of the following methods:

• Federal eRulemaking Portal—Regulations.gov: Go to https://www.regulations.gov. Enter “Docket ID OCC-2024-0014” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 8:00 a.m. to 7:00 p.m. ET, or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and “Docket ID OCC-2024-0014” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov: Go to https://regulations.gov/. Enter “Docket ID OCC-2024-0014” in the Search Box and click “Search.” Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Materials” checkbox. For assistance with the Regulations.gov site, please call 1-866-498-2945 (toll free) Monday-Friday, 8:00 a.m. to 7:00 p.m. eastern time (ET), or email regulationshelpdesk@gsa.gov.

The docket may be viewed after the close of the comment period in the same manner as during the comment period.

Board: You may submit comments, identified by Docket No. OP-1836, by any of the following methods:

• Agency website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St. NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

FDIC: You may submit comments, identified by RIN 3064-ZA43, by any of the following methods:

• Agency website: https://www.fdic.gov/resources/regulations/federal-register-publications/. Follow instructions for submitting comments on the FDIC's website.

• Email: Comments@fdic.gov. Include “Request for Information on Bank-Fintech Arrangements Involving Banking Products and Services Distributed to Consumers and Businesses/RIN 3064-ZA43” in the subject line of the message.

• Mail: James P. Sheesley, Assistant Executive Secretary, Attention: Request for Information on Bank-Fintech Arrangements Involving Banking Products and Services Distributed to Consumers and Businesses—RIN 3064-ZA43, Federal Deposit Insurance Corporation, 550 17th Street NW, Washington, DC 20429.

• Hand Delivery: Comments may be hand-delivered to the guard station at the rear of the 550 17th Street NW, building (located on F Street NW) on business days between 7:00 a.m. and 5:00 p.m. ET.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this notice will be retained in the public comment file and will be considered as required under all applicable laws. All comments may be accessible under the Freedom of Information Act.

FOR FURTHER INFORMATION CONTACT:

OCC: Miriam Bazan, Financial Technology Policy Specialist, or Tracy Chin, Director for Payment Systems Policy, Bank Supervision Policy (202) 649-5200; or Beth Knickerbocker, Special Counsel, Micah Cogen, Counsel, or Graham Bannon, Counsel, Chief Counsel's Office (202) 649-5490. If you are deaf, hard of hearing, or have a speech disability, please dial 7-1-1 to access telecommunications relay services.

Board: Kavita Jain, Associate Director, Novel Activities and Innovation Policy, (202) 452-2062, Jeff Ernst, Manager, Innovation Policy, (202) 452-2814, or Roman Goldstein, Lead Financial Institution Policy Analyst, (202) 452-3802, Division of Supervision and Regulation; Drew Kohan, Associate Director, Program Direction, Division of Consumer and Community Affairs, (202) 452-3040; Asad Kudiya, Deputy Associate General Counsel, (202) 475-6358 or Isabel Echarte, Attorney, (202) 452-2514, Legal Division, Board of Governors of the Federal Reserve System, 20th and C Streets NW, Washington, DC 20551. For the hearing impaired only, Telecommunication Device for the Deaf (TDD), (202) 263-4869.

FDIC: Rae-Ann Miller, Senior Deputy Director, (202) 898-3898, or Tom Lyons, Associate Director, (202) 898-6850, Division of Risk Management Supervision; Luke Brown, Associate Director, (202) 898-3842, or Meron Wondwosen, Chief, (571) 438-7127, Division of Depositor and Consumer Protection; Annmarie Boyd, Senior Counsel, (202) 898-3714, or Vivek Khare, Senior Counsel, (202) 898-6847; FDIC, 550 17th Street NW, Washington, DC 20429.

SUPPLEMENTARY INFORMATION: On July 31, 2024, the agencies published in the Federal Register a request for information and comment soliciting input on the nature of bank-fintech arrangements, effective risk management practices regarding bank-fintech arrangements, and the implications of such arrangements, including whether enhancements to existing supervisory guidance may be helpful in addressing risks associated with these arrangements.¹ The request for information and comment stated that the comment period would close on September 30, 2024. The agencies have received a request to extend the comment period for an additional 30 days. After reviewing the request, the agencies find it appropriate to grant the request and extend the comment period by an additional 30 days. An extension of the comment period will provide additional opportunity for the public to consider the request, prepare comments, and address the questions posed by the agencies. Therefore, the agencies are extending the end of the comment period from September 30, 2024, to October 30, 2024.

¹ 89 FR 61577 (July 31, 2024).

Michael J. Hsu,
Acting Comptroller of the Currency.
By order of the Board of Governors of the Federal Reserve System.
Ann E. Misback,
Secretary of the Board.
Federal Deposit Insurance Corporation.
Dated at Washington, DC, on September 13, 2024.
James P. Sheesley,
Assistant Executive Secretary.

[FR Doc. 2024-21413 Filed 9-18-24; 8:45 am]

BILLING CODE 4810-33-P; 6210-01-P; 6714-01-P